DEPARTMENT OF LABOR

Occupational Safety and Health Administration

[Docket No. NRTL2-98]

NSF International, Renewal of Recognition

AGENCY: Occupational Safety and Health Administration (OSHA), Labor.

ACTION: Notice.

SUMMARY: This notice announces the Occupational Safety and Health Administration's final decision granting the renewal of recognition of NSF International (NSF) as a Nationally Recognized Testing Laboratory under 29 CFR 1910.7.

DATES: The renewal of recognition becomes effective on August 30, 2005.

FOR FURTHER INFORMATION CONTACT: Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the renewal of recognition of NSF International (NSF) as a Nationally Recognized Testing Laboratory (NRTL). This renewal covers NSF's existing scope of recognition, which may be found in the following informational Web page: http://www.osha.gov/dts/otpca/nrtl/nsf.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” ¹ by the NRTL to meet OSHA standards that require testing and certification.

¹ Properly certified means, in part, that the product is labeled or marked with the NRTL's registered certification mark (i.e., the registered mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha-slc.gov/dts/otpca/nrtl/index.html.

NSF International (NSF) initially received OSHA recognition as a Nationally Recognized Testing Laboratory on December 10, 1998 (63 FR 68309) for a five-year period ending on December 10, 2003. Appendix A to 29 CFR 1910.7 stipulates that the period of recognition of an NRTL is five years and that an NRTL may renew its recognition by applying not less than nine months, nor more than one year, before the expiration date of its current recognition. NRTLs submitting requests within this allotted time period retain their recognition during OSHA's renewal process. NSF submitted a request, dated February 21, 2003 (see Exhibit 13-2) ², to renew its recognition, within the allotted time period, and retained its recognition pending OSHA's final decision in this renewal process. The NRTL Program staff performed an on-site review (assessment) of NSF's NRTL facilities and in the on-site review report, dated November 21, 2003 (see Exhibit 13-4)*, the program staff recommended the renewal of NSF's recognition. The preliminary notice announcing the renewal application was published in the Federal Register on February 28, 2005 (70 FR 9678). Comments were requested by March 15, but no comments were received in response to this notice.

² Exhibits 13-2 and 13-4 were referred to as Exhibits 14-1 and 16, respectively, in the February 28, 2005 notice.

You may obtain or review copies of all public documents pertaining to the NSF application by contacting the Docket Office, Occupational Safety and Health Administration, U.S. Department of Labor, 200 Constitution Avenue, NW., Room N2625, Washington, DC, 20210. Docket No. NRTL2-98 contains all materials in the record concerning NSF's application.

The current address of the NSF facility (site) already recognized by OSHA and included as part of the renewal is:

NSF International, 789 Dixboro, Ann Arbor, Michigan 48105.

Final Decision and Order

NRTL Program staff has examined the application, the assessor's report, and other pertinent information. Based upon this examination and the assessor's recommendation, OSHA finds that NSF International has met the requirements of 29 CFR 1910.7 for renewal of its recognition, subject to the limitation and conditions listed below. Pursuant to the authority in 29 CFR 1910.7, OSHA hereby renews the recognition of NSF, subject to this limitation and these conditions.

Limitation

OSHA limits the renewal of NSF's recognition to testing and certification of products for demonstration of conformance to the test standards listed below. OSHA has determined that each of these standards meets the requirements for an appropriate test standard, within the meaning of 29 CFR 1910.7(c).

UL 73 Motor-Operated Appliances

UL 94 Tests for Flammability of Plastic Materials for Parts in Devices and Appliances

UL 197 Commercial Electric Cooking Appliances

UL 399 Drinking-Water Coolers

UL 466 Electric Scales

UL 471 Commercial Refrigerators and Freezers

UL 514B Fittings for Cable and Conduit

UL 514C Nonmetallic Outlet Boxes, Flush-Device Boxes and Covers

UL 514D Cover Plates for Flush-Mounted Wiring Devices

UL 541 Refrigerated Vending Machines

UL 563 Ice Makers

UL 621 Ice Cream Makers

UL 651 Schedule 40 and 80 PVC Conduit

UL 651A Type EB and A Rigid PVC Conduit and HDPE Conduit

UL 651B Continuous Length HDPE Conduit

UL 749 Household Dishwashers

UL 751 Vending Machines

UL 763 Motor-Operated Commercial Food Preparing Machines

UL 921 Commercial Electric Dishwashers

UL 982 Motor-Operated Household Food Preparing Machines

UL 1081 Swimming Pool Pumps, Filters, and Chlorinators

UL 1453 Electric Booster and Commercial Storage Tank Water Heaters

UL 1563 Electric Spas, Equipment Assemblies, and Associated Equipment

UL 1795 Hydromassage Bathtubs

UL 1821 Thermoplastic Sprinkler Pipe and Fittings for Fire Protection

UL 61010A-1 Electrical Equipment For Laboratory Use; Part 1: General Requirements

OSHA's recognition of NSF, or any NRTL, for a particular test standard is limited to equipment or materials (i.e., products) for which OSHA standards require third party testing and certification before use in the workplace. Consequently, an NRTL's scope of recognition excludes any product(s) falling within the scope of a test standard for which OSHA has no NRTL testing and certification requirements.

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Supplemental Programs

The renewal includes NSF's continued use of the supplemental programs for which it is approved. Use of these programs is based upon the criteria detailed in OSHA's March 9, 1995, Federal Register notice (60 FR 12980). This notice lists nine (9) programs, eight of which (called the supplemental programs) an NRTL may use to control and audit, but not to generate, the data relied upon for product certification. An NRTL's initial recognition will always include the first or basic program, which requires that all product testing and evaluation be performed in-house by the NRTL that will certify the product. OSHA has already recognized NSF for the programs listed below. See http://www.osha.gov/dts/otpca/nrtl/nsf.html.

Program 2: Acceptance of testing data from independent organizations, other than NRTLs.

Program 4: Acceptance of witnessed testing data.

Program 5: Acceptance of testing data from non-independent organizations.

Program 8: Acceptance of product evaluations from organizations that function as part of the International Electrical Commission Certification Body (IEC-CB) Scheme.

Program 9: Acceptance of services other than testing or evaluation performed by subcontractors or agents.

OSHA developed these supplemental programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs help to define the scope of that recognition.

Conditions

NSF must also abide by the following conditions of the recognition, in addition to those already required by 29 CFR 1910.7:

OSHA must be allowed access to NSF's facility and records for purposes of ascertaining continuing compliance with the terms of its recognition and to investigate as OSHA deems necessary;

If NSF has reason to doubt the efficacy of any test standard it is using under this program, it must promptly inform the test standard developing organization of this fact and provide that organization with appropriate relevant information upon which its concerns are based;

NSF must not engage in or permit others to engage in any misrepresentation of the scope or conditions of its recognition. As part of this condition, NSF agrees that it will allow no representation that it is either a recognized or an accredited Nationally Recognized Testing Laboratory (NRTL) without clearly indicating the specific equipment or material to which this recognition is tied, or that its recognition is limited to certain products;

NSF must inform OSHA as soon as possible, in writing, of any change of ownership, facilities, or key personnel, and of any major changes in its operations as an NRTL, including details;

NSF will meet all the terms of its recognition and will always comply with all OSHA policies pertaining to this recognition; and

NSF will continue to meet the requirements for recognition in all areas where it has been recognized.

Signed at Washington, DC this 15th day of August, 2005.
Jonathan L. Snare,
Deputy Assistant Secretary.

[FR Doc. 05-17182 Filed 8-29-05; 8:45 am]

BILLING CODE 4510-26-P